NATIONAL LABOR RELATIONS BOARD

Sunshine Act Meetings

Time and Dates: All meetings are held at 2:30 p.m.

Wednesday, July 7;

Wednesday, July 14;

Wednesday, July 21;

Wednesday, July 28, 2010.

Place: Board Agenda Room, No. 11820, 1099 14th St., NW., Washington DC 20570.

Status: Closed.

Matters to be Considered: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

Contact Person for More Information: Lester A. Heltzer, Executive Secretary, (202) 273-1067.

Dated: July 1, 2010.
Lester A. Heltzer,
Executive Secretary.

[FR Doc. 2010-16629 Filed 7-2-10; 4:15 pm]

BILLING CODE 7545-01-P